DEPARTMENT OF THE INTERIOR

Bureau of Land Management

[OR-056-1110-PH:GP0-0208]

Notice of Closure of Public Lands

AGENCY: Bureau of Land Management, Prineville District Office.

ACTION: Notice is hereby given that all roads and trails as legally described below are seasonally closed to all uses (including, but not limited to motorized vehicle use, hiking, mountain biking, horseback riding) from March 1 through August 31 annually. In addition, the area legally described below is seasonally closed to shooting from March 1 through August 31 annually. “Shooting”, in this closure, is defined as the discharge of firearms.

The purpose of this closure is to protect wildlife resources. More specifically, this closure is ordered to reduce negative impacts to a nesting pair of prairie falcons. Prairie falcons are sensitive to human disturbance within the sensitive habitat area surrounding the nest site during the nesting season. Current uses at the site could jeopardize the persistence and nesting success of prairie falcons at this location.

Exemptions to this closure order will apply to administrative personnel for monitoring purposes; other exceptions to this restriction may be made on a case-by-case basis by the authorized officer. This emergency order will be in effect until further notice and will be evaluated in the Upper Deschutes Resource Management Plan/EIS. The authority for this closure is 43 CFR 89268.3(d)(i)(iii)(v): Operations—closures.

LEGAL DESCRIPTION: This closure order applies to all roads and trails located in Township 18 South, Range 14 East, WM, Sections 22, 23, 27 and 28, within ¼ mile the Badlands Rock.

FOR FURTHER INFORMATION CONTACT: Paul Schmidt, Wildlife Biologist, BLM Prineville District, P.O. Box 550, Prineville Oregon 97754, telephone (541) 416-6784.

SUPPLEMENTARY INFORMATION: Violation of this closure order is punishable by a fine not to exceed $1,000 and/or imprisonment not to exceed 12 months as provided in 43 CFR 9268.3(d)(iv).

Dated: June 1, 2000.
Don L. Smith,
Acting District Manager, Prineville District Office.

[FR Doc. 00-14641 Filed 6-8-00; 8:45 am]

BILLING CODE 4310-33-M